DEPARTMENT OF HOMELAND SECURITY

[Docket No. DHS-2007-0079]

The National Infrastructure Advisory Council

AGENCY: Directorate for National Protection and Programs, Department of Homeland Security.

ACTION: Committee Management; Notice of Federal Advisory Council Meeting.

SUMMARY: The National Infrastructure Advisory Council will meet on January 8, 2008 in Washington, DC. The meeting will be open to the public.

DATES: The National Infrastructure Advisory Council will meet Tuesday, January 8, 2008 from 1:30 p.m. to 4:30 p.m. Please note that the meeting may close early if the committee has completed its business. The time of the meeting is also subject to change. For the most current information, please consult the NIAC Web site, http://www.dhs.gov/niac, or contact Mark Baird by phone at 703-235-2888 or by e-mail at mark.baird@associates.dhs.gov.

ADDRESSES: The meeting will be held at the National Press Club, 529 14th Street, NW., Washington, DC 20045. While we will be unable to accommodate oral comments from the public, written comments may be sent to Nancy Wong, Department of Homeland Security, Directorate for National Protection and Programs, Washington, DC 20528. Written comments should reach the contact person listed below by December 8, 2007. Comments must be identified by DHS-2007-0079 and may be submitted by one of the following methods:

• Federal eRulemaking Portal: http://www.regulations.gov. Follow the instructions for submitting comments.

• E-mail: mark.baird@associates.dhs.gov. Include the docket number in the subject line of the message.

• Fax: 703-235-3055.

• Mail: Nancy Wong, Department of Homeland Security, Directorate for National Protection and Programs, Washington, DC 20528.

Instructions: All submissions received must include the words “Department of Homeland Security” and the docket number for this action. Comments received will be posted without alteration at http://www.regulations.gov, including any personal information provided.

Docket: For access to the docket to read background documents or comments received by the National Infrastructure Advisory Council, go to http://www.regulations.gov.

FOR FURTHER INFORMATION CONTACT: Nancy Wong, NIAC Designated Federal Officer, Department of Homeland Security, Washington, DC 20528; telephone 703-235-2888.

SUPPLEMENTARY INFORMATION: Notice of this meeting is given under the Federal Advisory Committee Act, 5 U.S.C. App. (Pub. L. 92-463). The National Infrastructure Advisory Council shall provide the President through the Secretary of Homeland Security with advice on the security of the critical infrastructure sectors and their information systems.

The National Infrastructure Advisory Council will meet to address issues relevant to the protection of critical infrastructure as directed by the President. The January 8, 2008 meeting will also include final deliberations from two Working Groups: (1) Chemical, Biological, and Radiological Events and Critical Infrastructure Workforce; and (2) The Insider Threat to Critical Infrastructures.

Procedural

While this meeting is open to the public, participation in The National Infrastructure Advisory Council deliberations is limited to committee members, Department of Homeland Security officials, and persons invited to attend the meeting for special presentations.

Information on Services for Individuals With Disabilities

For information on facilities or services for individuals with disabilities or to request special assistance at the meeting, contact the NIAC Secretariat at 703-235-2888 as soon as possible.

Dated: November 8, 2007.
Nancy Wong,
Designated Federal Officer for the NIAC.

[FR Doc. E7-22693 Filed 11-20-07; 8:45 am]

BILLING CODE 4410-10-P